NATIONAL FOUNDATION ON THE ARTS AND THE HUMANITIES

National Endowment for the Arts; Combined Arts Advisory Panel—Notice of Change

Pursuant to Section 10(a)(2) of the Federal Advisory Committee Act (Pub. L. 92-463), as amended, notice is hereby given that the time of the open session of the Combined Arts Advisory Panel, Multidisciplinary Section (Organizational Capacity category) has been changed. This session will be held from 3:45 p.m. to 4:45 p.m., rather than 4:30 p.m. to 5:30 p.m., on August 6, 2002, at the Nancy Hanks Center, 1100 Pennsylvania Avenue, NW., Washington, DC 20506.

Dated: July 17, 2002.
Kathy Plowitz-Worden,
Panel Coordinator, Panel Operations, National Endowment for the Arts.

[FR Doc. 02-18605 Filed 7-22-02; 8:45 am]

BILLING CODE 7537-01-M